DEPARTMENT OF THE INTERIOR

Fish and Wildlife Service

50 CFR Part 17

RIN 1018-AG71, 1018-AH70, 1018-AH08, 1018-AH09, 1018-AH02, and 1018-AI24

Endangered and Threatened Wildlife and Plants; Designations and Non-designations of Critical Habitat for Plant Species From the Islands of Kauai, Niihau, Maui, Kahoolawe, Molokai, Northwestern Hawaiian Islands, HI, and Oahu, HI

AGENCY: Fish and Wildlife Service, Interior.

ACTION: Proposed rules; reopening of comment periods, extension of comment period, availability of draft economic analyses.

SUMMARY: The U.S. Fish and Wildlife Service (Service) gives notice of the reopening of the comment periods for the proposed designations and non-designations of critical habitat for plant species on the islands of Kauai, Niihau, Molokai, Maui, Kahoolawe, Northwestern Hawaiian Islands, Hawaii, and Oahu. The new comment periods will allow all interested parties to submit written comments on these proposals simultaneously. We are seeking comments or suggestions from the public, other concerned agencies, the scientific community, industry, or any other interested parties concerning the proposed critical habitat designations. Comments already submitted on the proposed critical habitat designations and associated draft economic analyses need not be resubmitted as they will be fully considered in the final determinations.

DATES: The comment periods for the proposed designations and non-designations of critical habitat for plant species on the islands of Kauai, Niihau, Molokai, Maui, Kahoolawe, Northwestern Hawaiian Islands, Hawaii, and Oahu now close on September 30, 2002. Any comments received by the closing date will be considered in the final decisions on these proposals.

ADDRESSES: Comments and materials concerning these proposals should be sent to the Field Supervisor, U.S. Fish and Wildlife Service, Pacific Islands Office, 300 Ala Moana Boulevard, Room 3-122, P.O. Box 50088, Honolulu, HI 96850. Comments and materials received will be available for public inspection, by appointment, during normal business hours at the above address.

FOR FURTHER INFORMATION CONTACT: Paul Henson, at the above address, phone 808/541-3441, facsimile 808/541-3470.

SUPPLEMENTARY INFORMATION:

Background

On January 28, 2002, April 3, 2002, April 5, 2002, and May 14, 2002, the Service published revised proposed critical habitat designations and non-designations for plant species listed under the Endangered Species Act of 1973, as amended (Act), known historically from the islands of Kauai and Niihau, Maui and Kahoolawe, Molokai, and the Northwestern Hawaiian Islands respectively (67 FR 3940, 67 FR 15856, 67 FR 16492, and 67 FR 34522). The original comment periods closed on March 29, 2002, June 3, 2002, June 4, 2002, and July 15, 2002, respectively. The comment periods for the proposed critical habitat designations and non-designations for plant species known historically from Kauai and Niihau, Maui and Kahoolawe, Molokai, and the Northwestern Hawaiian Islands now close on September 30, 2002.

On July 15, 2002 (67 FR 46450), the Service reopened the comment period and announced the public hearing on the proposed critical habitat designation and non-designation for plant species known historically from Lanai. The public hearing was held on August 1, 2002, at the Lanai Public Library Meeting Room, Fraser Avenue, Lanai City, Lanai. The comment period for the proposed critical habitat designation and non-designation for plant species known historically from Lanai closes on August 30, 2002.

The Service published proposed critical habitat designations and non-designations for plant species listed under the Act, known historically from the islands of Hawaii and Oahu on May 28, 2002 (67 FR 36968 and 67 FR 37108). The original comment periods closed on July 29, 2002. The comment periods on these two proposals now close on September 30, 2002.

The proposed rules propose designation of critical habitat for 83 plant species from Kauai and Niihau; 61 plant species from Maui and Kahoolawe; 46 plant species from Molokai; 5 plant species from the Northwestern Hawaiian Islands; 47 plant species from the island of Hawaii; and, 99 species from Oahu. Some of these species are historically known from more than one island. Critical habitat was not proposed for seven species of loulu palm (Pritchardia affinis, P. aylmer-robinsonii, P. kaalae, P. napaliensis, P. munroi, P. schattaueri, and P. viscosa) because the designation of critical habitat would likely increase the threats from vandalism or collection of these species on the islands on which they occur. Critical habitat was not proposed for six species (Acaena exigua, Cenchrus agrimonioides var. laysanensis, Cyanea copelandii ssp. copelandii, Cyrtandra crenata, Melicope quadrangularis, and Ochrosia kilaueaensis) which had not been seen recently in the wild and for which no viable genetic material of these species was known to exist.

Comments from the public regarding these proposed rules are sought, especially regarding:

(1) The reasons why critical habitat for any of these species is prudent or not prudent as provided by section 4 of the Act and 50 CFR 424.12(a)(1);

(2) The reasons why any particular area should or should not be designated as critical habitat for any of these species, as critical habitat is defined by section 3 of the Act (16 U.S.C. 1532 (5));

(3) Specific information on the amount, distribution, and quality of habitat for the species, and what habitat is essential to the conservation of the species and why;

(4) Land use practices and current or planned activities in the subject areas and their possible impacts on proposed critical habitat;

(5) Any economic or other impacts resulting from the proposed designations of critical habitat, including any impacts on small entities, energy development, low income households, and local governments;

(6) Economic and other potential values associated with designating critical habitat for the above plant species such as those derived from non-consumptive uses (e.g., hiking, camping, birding, enhanced watershed protection, increased soil retention, “existence values”, and reductions in administrative costs);

(7) The appropriate methodology for determining if the benefits of excluding an area from critical habitat outweigh the benefits of specifying the area as critical habitat under section 4(b)(2) of the Act;

(8) The effects of critical habitat designation on Department of Defense lands, and how it would affect military activities; whether there will be a significant impact on military readiness or national security if we designate critical habitat on Department of Defense lands; and whether these lands should be excluded from the designation under section 4(b)(2) of the Act;

(9) Whether Department of Defense lands should be excluded from critical habitat based on an approved Integrated Natural Resource Management Plan (INRMP);

(10) Whether areas which are managed for the conservation of the species should not be included in critical habitat because such areas do not meet the definition of critical habitat contained in section 3(5)(A)(i) of the Act;

(11) Whether areas covered by an approved conservation plan (e.g., Habitat Conservation Plans, Conservation Agreements, Safe Harbor Agreements) should be excluded from critical habitat and if so, by what mechanism; and

(12) Whether areas should be excluded under section 4(b)(2) of the Act because critical habitat designation will impact other types of existing or future conservation partnerships that are beneficial to the species.

In addition, we are seeking comments or suggestions on the associated draft economic analyses of the proposed critical habitat designations and non-designations for plant species from Kauai, Niihau, and Molokai. The draft economic analyses can be obtained from the Pacific Islands Office (see ADDRESSES section). We will solicit public review and comment on the associated draft economic analyses of the proposed critical habitat designations and non-designations for plant species from Maui and Kahoolawe, Northwestern Hawaiian Islands, Oahu, and the island of Hawaii in subsequent Federal Register notices.

Reopening of the comment periods simultaneously will provide the public an opportunity to evaluate and comment on all of the areas proposed as critical habitat for each species, particularly the species located on more than one island. The comment periods for the proposed critical habitat designations for plant species known historically from Kauai and Niihau, Maui and Kahoolawe, Molokai, Northwestern Hawaiian Islands, island of Hawaii, and Oahu now close on September 30, 2002. The comment period for the proposed critical habitat designation for plant species known historically from Lanai closes on August 30, 2002 (67 FR 46450). Written comments should be submitted to the Service office listed in the ADDRESSES section.

Author

The primary author of this notice is Christa Russell (see ADDRESSES section).

Authority: The authority for this action is the Endangered Species Act of 1973 (16 U.S.C. 1531 et seq.).

Dated: August 15, 2002.
David P. Smith,
Acting Assistant Secretary for Fish and Wildlife and Parks.

[FR Doc. 02-21627 Filed 8-23-02; 8:45 am]

BILLING CODE 4310-55-P